DEPARTMENT OF TRANSPORTATION

Federal Aviation Administration

14 CFR Part 39

[Docket No. FAA-2006-25173; Directorate Identifier 2006-NE-24-AD]

RIN 2120-AA64

Airworthiness Directives; McCauley Propeller Systems Propeller Models B5JFR36C1101/114GCA-0, C5JFR36C1102/L114GCA-0, B5JFR36C1103/114HCA-0, and C5JFR36C1104/L114HCA-0

AGENCY: Federal Aviation Administration (FAA), Department of Transportation (DOT).

ACTION: Notice of proposed rulemaking (NPRM).

SUMMARY: The FAA proposes to supersede an existing airworthiness directive (AD) for McCauley Propeller Systems propeller models B5JFR36C1101/114GCA-0, C5JFR36C1102/L114GCA-0, B5JFR36C1103/114HCA-0, and C5JFR36C1104/L114HCA-0. That AD currently requires initial and repetitive fluorescent penetrant inspections (FPI) and eddy current inspections (ECI) of propeller blades for cracks, and if any crack indications are found, removing the blade from service. That AD also mandates a life limit for the blades. This proposed AD would require the same inspections, add a visual inspection, and would further reduce the propeller blade life limit. This proposed AD would also require removing blades with more than 10,000 operating hours time-since-new (TSN), before further flight. This proposed AD would also require removal from service of all the propeller blades and the propeller hub if one or more propeller blades have been found cracked on a propeller assembly. This proposed AD would also require removing from service all C-5963 split retainers. This proposed AD results from 8 reports of propeller blades found cracked since May of 2006. We are proposing this AD to detect cracks in the propeller blade that could cause failure and separation of the propeller blade and loss of control of the airplane.

DATES: We must receive any comments on this proposed AD by March 23, 2009.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact McCauley Propeller Systems, 5800 E. Pawnee, Wichita, KS 67218, telephone (800) 621-7767, for the service information identified in this proposed AD.

FOR FURTHER INFORMATION CONTACT: Jeff Janusz, Aerospace Engineer, Wichita Aircraft Certification Office, FAA, Small Airplane Directorate, 1801 Airport Road, Room 100, Wichita, KS 67209; e-mail: jeff.janusz@faa.gov; telephone: (316) 946-4148; fax: (316) 946-4107.

SUPPLEMENTARY INFORMATION:

Comments Invited

We invite you to send any written relevant data, views, or arguments regarding this proposal. Send your comments to an address listed under ADDRESSES. Include “Docket No. FAA-2006-25173; Directorate Identifier 2006-NE-24-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

The FAA proposes to amend 14 CFR part 39 by superseding AD 2008-08-01, Amendment 39-15453 (73 FR 19971, April 14, 2008). That AD requires initial and repetitive FPI and ECI of propeller blades for cracks, and if any crack indications are found, removing the blade from service. That AD also mandates a life limit for the blades. That condition, if not corrected, could result in failure and separation of the propeller blade and loss of control of the airplane.

Actions Since AD 2008-08-01 Was Issued

Since that AD was issued, propeller blades have cracked below the current 10,000 hour TSN life limit of the propeller blade. The cracks have all been found in the blade retention groove, near the ledge where the split retainers seat, on or near the shot peened area of the propeller blade retention groove. All cracked propeller blades have been found on propeller assemblies that are installed on Jetstream 41 airplanes operated by South African Airlink. All propeller blades that have been found cracked are part number L114HCA, which are installed in the propeller assembly on the No. 2 (right-side) engine. This propeller rotates counter-clockwise when viewed from the rear, on the Jetstream 41 airplane. To date, there have been no other field reports of the same condition as described above, or occurrences of propeller blade failure and separation attributed to this particular unsafe condition. We have not yet determined if the blade cracking is the result of a design issue, an operational issue, or a combination of the two.

Relevant Service Information

We have reviewed and approved the technical contents of McCauley Propellers Alert Service Bulletin (ASB) No. ASB255A, dated October 6, 2008. That ASB:

• Describes procedures for an FPI and ECI of propeller blades for cracks;

• Describes procedures for a visual inspection of the blade shank for a step condition;

• Reduces the propeller blade life limit to 3,500 hours TSN;

• Removes from service all the propeller blades and the propeller hub if one or more propeller blades have been found cracked on a propeller assembly; and

• Removes from service all C-5963 split retainers.

FAA's Determination and Requirements of the Proposed AD

We have evaluated all pertinent information and identified an unsafe condition that is likely to exist or develop on other products of this same type design. For that reason, we are proposing this AD, which would require an FPI and ECI of propeller blades for cracks, would visually inspect the blade shank for a step condition, and would reduce the propeller blade life limit to 3,500 hours TSN. This proposed AD would also require removing blades with more than 10,000 operating hours TSN, before further flight. This proposed AD would also require removal from service of all the propeller blades and the propeller hub if one or more propeller blades have been found cracked on a propeller assembly. This proposed AD would also require removing from service all C-5963 split retainers at time of next inspection. The proposed AD would require that you do these actions using the service information described previously.

Interim Action

These actions are interim actions and we may take further rulemaking actions in the future.

Costs of Compliance

We estimate that this proposed AD would affect 8 propeller assemblies installed on airplanes of U.S. registry. We estimate that it would take about 44 work-hours per propeller to perform the proposed required actions, and that the average labor rate is $80 per work-hour. Required parts would cost about $260 per propeller, if no cracks are found. We estimate that one propeller will fail the blade inspection required by this proposed AD, and the propeller replacement cost would be about $67,067. Prorated life lost for the propeller assembly would cost about $39,043 per propeller. Based on these figures, we estimate the total cost of the proposed AD to U.S. operators to be $370,608.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Incorporation by reference, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15453 (73 FR 19971, April 14, 2008) and by adding a new airworthiness directive to read as follows:

McCauley Propeller Systems : Docket No. FAA-2006-25173; Directorate Identifier 2006-NE-24-AD.

Comments Due Date

(a) The Federal Aviation Administration (FAA) must receive comments on this airworthiness directive (AD) action by March 23, 2009.

Affected ADs

(b) This AD supersedes AD 2008-08-01, Amendment 39-15453.

Applicability

(c) This AD applies to McCauley Propeller Systems propeller models B5JFR36C1101/114GCA-0, C5JFR36C1102/L114GCA-0, B5JFR36C1103/114HCA-0, and C5JFR36C1104/L114HCA-0. These propellers are installed on BAE Systems (Operations) Limited Jetstream Model 4100 and 4101 series airplanes (Jetstream 41).

Unsafe Condition

(d) This AD results from 8 reports of propeller blades found cracked since May of 2006. We are issuing this AD to detect cracks in the propeller blade that could cause failure and separation of the propeller blade and loss of control of the airplane.

Compliance

(e) You are responsible for having the actions required by this AD performed within the compliance times specified unless the actions have already been done.

Life Limit Reduction

(f) For propeller blades with more than 10,000 operating hours time-since-new (TSN) on the effective date of this AD, remove the propeller blades before further flight.

(g) For propeller blades with more than 3,000 operating hours TSN on the effective date of this AD, remove the propeller blades within the next 500 operating hours.

(h) For propeller blades with 3,000 or fewer operating hours TSN on the effective date of this AD, remove the propeller blades upon reaching 3,500 operating hours TSN.

Removal From Service of Propeller Blades and Hubs From Propeller Assemblies That Already Had One or More Cracked Propeller Blades

(i) Remove the serial number (SN) propeller blades and the hubs listed in Table 1 of this AD from service, using the inspection compliance schedule in Table 2 of this AD. These blades and hubs were installed on propeller assemblies that already had one or more propeller blades removed due to cracking, but at that time those blades and hubs were not required to be removed from service. Table 1 only represents propeller assemblies that were reported to have cracked blades. There may be other propeller assemblies affected that we have not received reports on.

Table 1—Propeller Blade and Hub SNs Requiring Removal From Service at Next Inspection
Hub SN | Blade SNs
023062 | XH31043, XH31131, XE31002, XH31025, XI31014.
040296 | YA31058, YA31055, YB31084, YB31088, YB31090.
041016 | XB31009, XB31073, XA31071, XA31063, WK31013.
051193 | XH31018, XH31077, XH31081, XL31008, XL31043.
040282 | XG31015, XG31016, XH31113, XH31117, XI31017.
051204 | XI31049, XH31140, XH31129, XH31084, XH31074.
051194 | WF31010, WD31032, WF31002, WF31029, WF31078.

Propeller Blade Inspection

(j) Perform a fluorescent penetrant inspection and eddy current inspection of the propeller blades, and a visual inspection for “step condition” of the blade shank. Use the Equipment Required and Accomplishment Instructions of McCauley Propellers Alert Service Bulletin (ASB) No. ASB255A, dated October 6, 2008, and the compliance schedule in Table 2 of this AD:

Table 2—Inspection Compliance Schedule
If on the effective date of this AD, the propeller blade: | Then inspect the propeller blade:
(1) Has more than 2,400 operating hours TSN, time-since-last inspection (TSLI), or time-since-overhaul (TSO) and has been inspected using AD 2008-08-01 or McCauley Propellers ASB No. ASB255, dated January 8, 2007 within the past 2,400 operating hours | Upon reaching 2,500 operating hours TSLI. See TSLI definition paragraph (o) of this AD.
(2) Has more than 2,400 operating hours TSN, TSLI, or TSO and has not been inspected using AD 2008-08-01 or McCauley Propellers ASB No. ASB255, dated January 8, 2007 within the past 2,400 operating hours | Within the next 100 operating hours time-in-service.
(3) Has 2,400 or fewer operating hours TSN, TSLI, or TSO | Upon reaching 2,500 operating hours TSN, TSLI, or TSO.

Propellers Failing Blade Inspection

(k) Remove from service all of the propeller blades, and the propeller hub, if one or more propeller blades are found cracked on a propeller assembly. Propeller blades and the propeller hub of a propeller assembly that has one or more cracked propeller blades, are no longer eligible for installation in any configuration. Do not install them in any configuration on any airframe.

(l) Remove from service all propeller blades that exhibit a blade shank “step condition” of 0.005-inch or greater. Blades removed from service are no longer eligible for installation in any configuration. Do not install them in any configuration on any airframe.

Removal of C-5963 Split Retainers From Service

(m) Remove from service all C-5963 split retainers at the time of blade inspection specified in paragraph (i) of this AD. C-5963 split retainers removed from service are no longer eligible for installation in any configuration. Do not install them in any configuration on any airframe.

(n) After the effective date of this AD, propeller assemblies with C-5963 split retainers, are prohibited from installation on any airframe.

Definition

(o) For the purpose of this AD, TSLI refers only to inspections performed using AD 2008-08-01 or McCauley ASB No. ASB255, dated January 8, 2007.

Reporting Requirements

(p) Within 10 calendar days of the inspection, use the Reporting Form in McCauley ASB No. ASB255A, to report all inspection findings to the FAA, Wichita Aircraft Certification Office, 1801 Airport Road, Room 100, Wichita, KS 67209, Attention: Jeff Janusz; telephone (316) 946-4148; fax (316) 946-4107; e-mail: jeff.janusz@faa.gov.

(q) Include any photographs, and any other information related to the means of detection of the crack, and the history of the propeller and blades.

(r) The Office of Management and Budget (OMB) has approved the reporting requirements and assigned OMB control number 2120-0056.

Alternative Methods of Compliance

(s) The Manager, Wichita Aircraft Certification Office, has the authority to approve alternative methods of compliance for this AD if requested using the procedures found in 14 CFR 39.19.

Special Flight Permits

(t) Under 39.23, we are limiting the availability of special flight permits for this AD. Special flight permits are available only if:

(1) The operator has not seen signs of external oil leakage from the hub; and

(2) The operator has not observed abnormal propeller vibration or abnormal engine vibration; and

(3) The operator has not observed any other abnormal operation from the propeller; and

(4) The operator has not made earlier reports of abnormal propeller vibration, abnormal engine vibration, or other abnormal propeller operations that have not been addressed.

Related Information

(u) Contact Jeff Janusz, Aerospace Engineer, Wichita Aircraft Certification Office, FAA, Small Airplane Directorate, 1801 Airport Road, Room 100, Wichita, KS 67209; e-mail: jeff.janusz@faa.gov; telephone: (316) 946-4148; fax: (316) 946-4107, for more information about this AD.

Issued in Burlington, Massachusetts, on January 12, 2009.
Peter A. White,
Assistant Manager, Engine and Propeller Directorate, Aircraft Certification Service.

[FR Doc. E9-1028 Filed 1-16-09; 8:45 am]

BILLING CODE 4910-13-P